DEPARTMENT OF THE INTERIOR

Office of Natural Resources Revenue

[Docket No. ONRR-2011-0003]

Assessments for Mismatched Payments or Inadequate Payment Information for Geothermal, Solid Minerals, and Indian Oil and Gas Leases

AGENCY: Office of Natural Resources Revenue, Interior.

ACTION: Notice.

SUMMARY: Regulations for geothermal, solid minerals, and Indian oil and gas leases authorize the Office of Natural Resources Revenue (ONRR) to assess payors for failure to submit payments of the same amount as the royalty or bill document, or to provide adequate information. The amount assessed for each mismatched or inadequately identified payment will be $214.00, effective on the date stated below.

DATES: Effective Date: July 11, 2011.

FOR FURTHER INFORMATION CONTACT: Paul Knueven, Financial Management (FM), ONRR; telephone (303) 231-3316; e-mail paul.knueven@onrr.gov; or Joseph Muniz, FM, ONRR, telephone (303) 231-3103; e-mail joseph.muniz@onrr.gov. Fax: (303) 231-3711. Mailing address: Department of the Interior, Office of Natural Resources Revenue, P.O. Box 25165, MS 61211B, Denver, Colorado 80225-0165.

SUPPLEMENTARY INFORMATION: On March 26, 2008, ONRR (formerly Minerals Management Service's Minerals Revenue Management) published a final rule titled “Reporting Amendments” (73 FR 15885), with effective date April 25, 2008. This rule revised 30 CFR 1218.41 to comply with the Federal Oil and Gas Royalty Simplification and Fairness Act of 1996. The regulations authorize ONRR to assess payors for failure to submit payments of the same amount as the royalty or bill document, or to provide adequate information. Section 1218.41(f) requires ONRR to publish the assessment amount and the effective date in the Federal Register.

The ONRR bases the amount of the assessment on ONRR's cost experience with improper payment and identification. The assessment allows ONRR to recover the associated costs and provides industry with incentives to improve the efficiency of payment processing.

Dated: May 31, 2011.
Gregory J. Gould,
Director for Office of Natural Resources Revenue.

[FR Doc. 2011-14276 Filed 6-8-11; 8:45 am]

BILLING CODE 4310-MR-P